FEDERAL COMMUNICATIONS COMMISSION

[EB Docket No. 07-197; FCC 07-165]

Kurtis J. Kintzel, Keanan Kintzel, and All Entities by Which They Do Business Before the Federal Communications Commission—Order To Show Cause and Notice of Opportunity for Hearing

AGENCY: Federal Communications Commission.

ACTION: Notice.

SUMMARY: This document commences a hearing by directing Buzz Telecom Corporation, Business Options, Inc., U.S. Bell Corporation, Link Technologies, AVATAR, and/or their principals Kurtis J. Kintzel and/or Keanan Kintzel to show cause in an adjudicatory proceeding before an administrative law judge why their operating authority should not be revoked, and whether they should be required to refrain from providing any interstate common carrier services in the future without first obtaining prior Commission consent as a result of their apparent repeated and/or willful violations of the Commission's rules and provisions of the Communications Act of 1934, as amended (the “Act”), relating to the provision of interstate common carrier services. The hearing will be held at a time and place to be specified in a subsequent order.

DATES: Petitions by persons desiring to participate as a party in the hearing, pursuant to 47 CFR 1.223, may be filed no later than October 29, 2007. See Summary of the Order section below for dates that named parties should file appearances.

ADDRESSES: Please file documents with the Office of the Secretary, Federal Communications Commission, 445 12th Street, SW., Washington, DC 20554, and copies thereof shall be served on the Chief, Investigations and Hearings Division, Enforcement Bureau, Room 4-C330. Each document that is filed in this proceeding must display on the front page the document number of this hearing, “EB Docket No. 07-197.”

FOR FURTHER INFORMATION CONTACT: Michele Levy Berlove, Investigations and Hearings Division, Enforcement Bureau, (202) 418-1420.

SUPPLEMENTARY INFORMATION: This is a summary of the Commission's Order to Show Cause and Notice of Opportunity for Hearing, FCC-165, released on September 10, 2007 (the “Order”). The full text of the Order is available for inspection and copying from 8 a.m. to 4:30 p.m., Monday through Thursday, or from 8 a.m. to 11:30 a.m. on Friday, at the FCC Reference Information Center, Room CY-A257, 445 12th Street, SW., Washington, DC 20554. The complete text may be purchased from the Commission's copy contractor, Best Copy and Printing, Inc. (BCPI), Portals II, 445 12th Street, SW., Room CY-B402, Washington, DC 20554, telephone 202-488-5300, facsimile 202-488-5563, or you may contact BCPI at its Web site: http://www.BCPIWEB.com. When ordering documents from BCPI, please provide the appropriate document number, FCC 07-165. The Order also is available on the internet at the Commission's Web site through its Electronic Document Management System (EDOCS). The Commission's internet address for EDOCS is: http://hraunfoss.fcc.gov/edocs_public/SilverStream/Pages/edocs.html. Alternative formats are available to persons with disabilities (Braille, large print, electronic files, audio format). Send an e-mail to fcc504@fcc.gov or call the Consumer and Governmental Affairs Bureau at 202-418-0530 (voice) or 202-418-0432 (TTY).

Summary of the Order

In the Order, the Federal Communications Commission commences a hearing proceeding before an administrative law judge to determine, among other things, whether (i) The authority granted to Kurtis J. Kintzel, Keanan Kintzel, and any and all entities in which they are principals and/or do business, to operate as common carriers should be revoked and, (ii) Kurtis J. Kintzel, Keanan Kintzel, and any and all entities in which they are or may be principals and/or by which they do, or may do business, should be required to refrain from providing any interstate common carrier services in the future without first obtaining prior Commission consent. Entities providing interstate common carrier services owned and controlled by Kurtis J. and Keanan Kintzel apparently willfully and repeatedly violated multiple terms of a Consent Decree to which they were signatories and apparently willfully and repeatedly violated multiple Commission rules and provisions of the Act relating to the provision of interstate common carrier services. Such apparent violations, and a lengthy history of noncompliance before the Commission, raise material and substantial questions regarding the basic qualifications of the Kintzel brothers to engage in the provision of interstate common carrier services now and in the future.

Information has come to the Commission's attention that Business Options, Inc. (“BOI”) violated certain provisions of the Consent Decree in EB Docket No. 03-85 (“Consent Decree”). BOI entered into that Consent Decree prior to final disposition of an evidentiary hearing wherein it was to be determined, among other things, whether BOI had intentionally provided incorrect or misleading information to the Commission; whether BOI had engaged in unlawful “slamming” activities by changing consumers' long distance providers without authorization in violation of section 258 of the Act, 47 U.S.C. 258, and 64.1120(a)(1) of the Commission's rules, 47 CFR 64.1120(a)(1); whether BOI failed to file registration statements required under 64.1195 of the Commission's rules, 47 CFR 64.1195; whether BOI discontinued service to the public in violation of section 214 of the Act, 47 U.S.C. 214, and 63.71 of the Commission's rules, 47 CFR 63.71; whether BOI had properly filed Telecommunications Reporting Worksheets; and whether BOI made all required contributions to the Universal Service Fund (“USF”) and Telecommunications Relay Services Fund (“TRS”), respectively. The terms of the Consent Decree specifically applied to all entities owned, directed, or controlled by the Kintzel brothers, and was intended to ensure their future compliance with sections 214, 254, and 258 of the Act, 47 U.S.C. 214, 254, 258, and related Commission rules. The Consent Decree contemplated a voluntary contribution to the United States Treasury in the total amount of $510,000 to be paid in 48 scheduled monthly installments; payment of all outstanding universal service and TRS debts; and timely payment of all future universal service and TRS assessments. In addition, the Kintzel brothers agreed to henceforth obtain all appropriate and necessary authorizations prior to discontinuing service in any state and to implement procedures regarding marketing of services to new customers and verification procedures related to these marketing efforts. The Consent Decree also required the filing of regular reports with the Commission relating to compliance with various Commission rules and Consent Decree requirements.

In the fall of 2006, the Enforcement Bureau received information indicating that the Kintzel brothers had discontinued making the required regularly scheduled monthly installment payments toward satisfaction of their voluntary contribution under the 2004 Consent Decree. The information also suggested that an entity controlled by the Kintzel brothers, and subject to the terms of the Consent Decree, Buzz Telecom Corporation (“Buzz”), had unlawfully discontinued service to the public, and failed to pay required universal service and TRS assessments. During the last quarter of 2006, the Commission also received a number of consumer complaints alleging that Buzz, like BOI, had engaged in prohibited slamming and/or cramming activities. The Enforcement Bureau, on December 20, 2006, initiated an investigation of, and directed a Letter of Inquiry (“LOI”) to, Buzz and BOI requiring the production of various documents and responses to interrogatories concerning these allegations.

In the response to the LOI provided by Kurtis Kintzel on behalf of Buzz and BOI (the “LOI Response”), Kintzel admitted that the voluntary contribution of $510,000 had not been completely satisfied, and that $192,600 was past due and that they had discontinued service to all customers in each state where they had been providing services despite having failed to request and obtain Commission authorization to do so. In the LOI Response, Kintzel misrepresented to the Enforcement Bureau that the entities that he and his brother controlled were up to date and in compliance with their universal service and TRS contribution obligations. The LOI Response also failed to provide any information about the multiple slamming and cramming complaints the Commission had received from consumers. Despite a follow-up communication to Kintzel requesting the same information, Kintzel again failed to provide the requested information. In addition, despite the Enforcement Bureau's request, Kintzel failed to produce information about slamming and cramming complaints that Buzz had received directly from consumers. The Commission continues to receive complaints alleging that Buzz executed a change to a subscriber's telephone exchange or telephone toll service without authorization in apparent violation of section 248 of the Act, 47 U.S.C. 248, and 64.1120 of the Commission's rules, 47 CFR 64.1120.

Thus, pursuant to sections 4(i) and 214 of the Act, 47 U.S.C. 154(i), 214, the Order directs directing Buzz, BOI, U.S. Bell Corporation (“US Bell”), Link Technologies (“Link”), AVATAR, and/or their principals Kurtis J. Kintzel and/or Keanan Kintzel to show cause in an adjudicatory proceeding before an administrative law judge why (i) The operating authority bestowed on them pursuant to section 214 of the Act, 47 U.S.C. 214, should not be revoked and, (ii) Kurtis J. Kintzel, Keanan Kintzel, and any and all entities in which they are or may be principals and/or by which they do, or may do business, should be required to refrain from providing any interstate common carrier services in the future without first obtaining prior Commission consent, as a result of their repeated violation of the Commission's rules and provisions of the Act, upon the following issues:

(a) Whether Buzz, BOI, U.S. Bell, Link, AVATAR, and/or their principals Kurtis J. Kintzel and/or Keanan Kintzel willfully and/or repeatedly violated Paragraph 14(d) of the Consent Decree by discontinuing service in one or more states without first notifying either the Commission or the appropriate state regulatory authority;

(b) Whether Buzz, BOI, U.S. Bell, Link, AVATAR, and/or their principals Kurtis J. Kintzel and/or Keanan Kintzel willfully and/or repeatedly violated Paragraph 14(f) of the Consent Decree by failing to make required universal service contributions by the date indicated on invoices from the Universal Service Adminstrative Company (“USAC”);

(c) Whether Buzz, BOI, U.S. Bell, Link, AVATAR, and/or their principals Kurtis J. Kintzel and/or Keanan Kintzel willfully and/or repeatedly violated Paragraph 14(g) of the Consent Decree by failing to make required TRS contributions by the date indicated on invoices received from the National Exchange Carriers Association (“NECA”);

(d) Whether Buzz, BOI, U.S. Bell, Link, AVATAR, and/or their principals Kurtis J. Kintzel and/or Keanan Kintzel willfully and/or repeatedly violated Paragraph 15 of the Consent Decree by failing to make required voluntary contributions to the Commission in a timely manner;

(e) Whether Buzz, BOI, U.S. Bell, Link, AVATAR, and/or their principals Kurtis J. Kintzel and/or Keanan Kintzel willfully and/or repeatedly violated § 63.71 of the Commission's rules, 47 CFR 63.71, by discontinuing service in one or more states without first notifying either the Commission or the appropriate state regulatory authority;

(f) Whether Buzz, BOI, U.S. Bell, Link, AVATAR, and/or their principals Kurtis J. Kintzel and/or Keanan Kintzel willfully and/or repeatedly violated § 54.706 of the Commission's rules, 47 CFR 54.706, by failing to make required universal service contributions by the date indicated on invoices from USAC;

(g) Whether Buzz, BOI, U.S. Bell, Link, AVATAR, and/or their principals Kurtis J. Kintzel and/or Keanan Kintzel willfully and/or repeatedly violated § 64.604(c)(5)(iii)(A) of the Commission's rules, 47 CFR 64.604(c)(5)(iii)(A), by failing to make required TRS contributions by the date indicated on invoices received from NECA;

(h) Whether Buzz, BOI, U.S. Bell, Link, AVATAR, and/or their principals Kurtis J. Kintzel and/or Keanan Kintzel willfully and/or repeatedly violated sections 218 and/or 403 of the Act, 47 U.S.C. 218, 403, by failing to respond fully, completely, and in a timely manner to one or more Commission inquiries;

(i) Whether Buzz, BOI, U.S. Bell, Link, AVATAR, and/or their principals Kurtis J. Kintzel and/or Keanan Kintzel willfully and/or repeatedly violated section 258 of the Act, 47 U.S.C. 258, and 64.1120 of the Commission's rules, 47 CFR 64.1120, by changing a subscriber's provider of telephone exchange or telephone toll service without authorization and/or without following the verification procedure's outlined in § 64.1120 of the Commission's rules;

(j) In light of the evidence adduced pursuant to the foregoing issues, whether the authority conferred by section 214 of the Act, 47 U.S.C. 214, upon Buzz, BOI, U.S. Bell, Link Technologies, AVATAR, and/or their principals Kurtis J. Kintzel and/or Keanan Kintzel to provide interstate common carrier services should be revoked;

(k) In light of the evidence adduced pursuant to the foregoing issues, whether Buzz, BOI, U.S. Bell, Link, AVATAR, and/or their principals Kurtis J. Kintzel and/or Keanan Kintzel should be ordered to henceforth cease, desist and otherwise refrain from providing interstate common carrier services of any kind without prior written application to and consent from the Commission.

The hearing will be held at a time and place to be specified in a subsequent order. Copies of the Order are being sent to Buzz Telecom Corporation, Business Options, Inc., U.S. Bell Corporation, Link Technologies, AVATAR, Kurtis J. Kintzel and Keanan Kintzel via Certified Mail, Return Receipt Requested, and by e-mail.

To avail themselves of the opportunity to be heard, Buzz Telecom Corporation, Business Options, Inc., U.S. Bell Corporation, Link Technologies, AVATAR, and/or their principals Kurtis J. Kintzel and/or Keanan Kintzel, in person or by their attorney, are directed by the Order, pursuant to 47 CFR 1.91(c), to file with the Commission, by October 1, 2007, a written appearance stating that they will appear on the date fixed for hearing and present evidence on the issues specified herein.

Federal Communications Commission.
Marlene H. Dortch,
Secretary.

[FR Doc. E7-19020 Filed 9-26-07; 8:45 am]

BILLING CODE 6712-01-P